DEPARTMENT OF THE INTERIOR

Fish and Wildlife Service

[FWS-R8-NWRS-2016-0063; FXRS12610800000-167-FF08R00000]

Lower Klamath, Clear Lake, Tule Lake, Upper Klamath, and Bear Valley National Wildlife Refuges, Klamath County, OR; Siskiyou and Modoc Counties, CA: Draft Comprehensive Conservation Plan/Environmental Impact Statement

AGENCY: Fish and Wildlife Service, Interior.

ACTION: Notice availability; extension of public comment period.

SUMMARY: We, the Fish and Wildlife Service (Service), announce the extension of the public comment period on the Draft Comprehensive Conservation Plan (CCP) and Environmental Impact Statement (EIS) for Lower Klamath, Clear Lake, Tule Lake, Upper Klamath, and Bear Valley National Wildlife Refuges (Refuges). We opened the comment period on May 6, 2016, via a Federal Register notice, and now extend it to accommodate public requests. If you have already submitted comments, you do not need to resubmit them. They will be considered.

DATES: The comment period for the document published in the Federal Register of May 6, 2016 (81 FR 27468) is extended. To ensure consideration, we must receive your written comments by August 4, 2016. Comments submitted electronically using the Federal eRulemaking Portal (see ADDRESSES) must be received by 11:59 p.m. Eastern Time on the closing date.

ADDRESSES: Document Availability: You may obtain copies of the documents in the following places:

• Internet: http://www.regulations.gov (Docket Number FWS-R8-NWRS-2016-0063).

• In Person:

○ Klamath Refuge Basin National Wildlife Refuge Complex Headquarters, 4009 Hill Road, Tulelake, CA 96134.

○ The following libraries: For the location of libraries with a copy of this document, see Public Availability of Documents under SUPPLEMENTARY INFORMATION.

Submitting Comments: You may submit written comments by one of the following methods:

• Electronically: Go to the Federal eRulemaking Portal: http://www.regulations.gov. In the Search box, enter FWS-R8-NWRS-2016-0063, which is the docket number for this notice. Then, on the right side of the screen, click “Open Docket Folder” to locate the documents and submit a comment.

• By hard copy: Submit by U.S. mail or hand-delivery to: Public Comments Processing, Attn: FWS-R8-NWRS-2016-0063; U.S. Fish and Wildlife Service Headquarters, MS: BPHC; 5275 Leesburg Pike, Falls Church, VA 22041-3803.

We request that you send comments by only the methods described above. We will post all information received on http://www.regulations.gov. This generally means that we will post any personal information you provide us (see the Public Comments under SUPPLEMENTARY INFORMATION for more information).

FOR FURTHER INFORMATION CONTACT: Klamath Refuge Planner, (916) 414-6464 (phone).

SUPPLEMENTARY INFORMATION: We announce the extension of the public comment period on the Draft Comprehensive Conservation Plan (CCP) and Environmental Impact Statement (EIS) for Lower Klamath, Clear Lake, Tule Lake, Upper Klamath, and Bear Valley National Wildlife Refuges (Refuges). We opened the comment period on May 6, 2016, via a Federal Register notice (81 FR 27468), and now extend it to accommodate public requests. If you have already submitted comments, you do not need to resubmit them. They will be considered.

Public Availability of Documents

In addition to any methods in ADDRESSES, you can view or obtain documents at the following locations:

• Public Libraries: The table below lists the libraries where the document can be found during regular library hours.

Library | Address | Phone No.
Klamath County Main | 126 South Third Street, Klamath Falls, OR 97601 | (541) 882-8894
Keno Branch | 15555 Hwy 66, #1, Keno, OR 97627 | (541) 273-0750
Malin Branch | 2307 Front Street, Malin, OR 97632 | (541) 723-5210
Merrill Branch | 365 Front Street, Merrill, OR 97633 | (541) 798-5393
S. Suburban Branch | 3625 Summers Lane, Klamath Falls, OR 97603 | (541) 273-3679
Tulelake Branch | 451 Main Street, Tulelake, CA 96134 | (530) 667-2291
Butte Valley Branch | 800 West Third Street, Dorris, CA 96023 | (530) 397-4932
Redding | 1100 Parkview Ave., Redding, CA 96001 | (530) 245-7250
Multnomah Co. Central | 801 SW 10th Ave, Portland, OR 97205 | (530) 988-5123
Sacramento Public Central Branch | 828 I St., Sacramento, CA 95814 | (916) 264-2700
Medford | 205 S. Central Ave, Medford, OR 95701 | (541) 774-8689

Public Comments

We request that you send comments only by one of the methods described in ADDRESSES. If you submit a comment via http://www.regulations.gov, your entire comment—including your personal identifying information—will be posted on the Web site. We will post all hardcopy comments on http://www.regulations.gov as well. If you submit a hardcopy comment that includes personal identifying information, you may request at the top of your document that we withhold this information from public review. However, we cannot guarantee that we will be able to do so. Comments and materials we receive, as well as documents associated with the notice, will be available for public inspection on http://www.regulations.gov at Docket No. FWS-R8-NWRS-2016-0063.

Public Meetings

The locations, dates, and times of public meetings will be listed in a planning update distributed to the project mailing list and posted on the refuge planning Web site at http://www.fws.gov/refuge/Tule_Lake/what_we_do/conservation.html.

Environmental Protection Agency Comments

To view comments on the draft CCP/EIS from the Environmental Protection Agency (EPA), go to https://cdxnodengn.epa.gov/cds-enepa-public/action/eis/search.

Ren Lohoefener,
Regional Director, Pacific Southwest Region, Sacramento, California.

[FR Doc. 2016-14621 Filed 6-17-16; 8:45 am]

BILLING CODE 4333-15-P